DEPARTMENT OF ENERGY

Federal Energy Regulatory Commission

Combined Notice of Filings # 1

Take notice that the Commission received the following exempt wholesale generator filings:

Docket Numbers: EG23-154-000.

Applicants: Fox Squirrel Solar LLC.

Description: Fox Squirrel Solar LLC submits Notice of Self-Certification of Exempt Wholesale Generator Status.

Filed Date: 5/17/23.

Accession Number: 20230517-5113.

Comment Date: 5 p.m. ET 6/7/23.

Docket Numbers: EG23-155-000.

Applicants: Huck Finn Solar, LLC.

Description: Huck Finn Solar, LLC submits Notice of Self-Certification of Exempt Wholesale Generator Status.

Filed Date: 5/17/23.

Accession Number: 20230517-5114.

Comment Date: 5 p.m. ET 6/7/23.

Take notice that the Commission received the following electric rate filings:

Docket Numbers: ER22-616-002.

Applicants: Dressor Plains Solar, LLC.

Description: Midcontinent Independent System Operator, Inc. submits tariff filing per 35.19a(b): Refund Report_Dressor Plains Solar, LLC to be effective N/A.

Filed Date: 5/16/23.

Accession Number: 20230516-5187.

Comment Date: 5 p.m. ET 6/6/23.

Docket Numbers: ER22-865-001.

Applicants: Glaciers Edge Wind Project, LLC.

Description: Midcontinent Independent System Operator, Inc. submits tariff filing per 35.19a(b): Refund Report_Glaciers Edge Wind Project LLC to be effective N/A.

Filed Date: 5/16/23.

Accession Number: 20230516-5182.

Comment Date: 5 p.m. ET 6/6/23.

Docket Numbers: ER22-1554-001.

Applicants: Ford County Wind Farm LLC.

Description: Midcontinent Independent System Operator, Inc. submits tariff filing per 35.19a(b): Refund Report_Ford County Wind Farm LLC to be effective N/A.

Filed Date: 5/16/23.

Accession Number: 20230516-5184.

Comment Date: 5 p.m. ET 6/6/23.

Docket Numbers: ER23-1895-000.

Applicants: Solar Partners XI, LLC.

Description: Baseline eTariff Filing: Application for Market Based Rate Authority to be effective 7/17/2023.

Filed Date: 5/16/23.

Accession Number: 20230516-5174.

Comment Date: 5 p.m. ET 6/6/23.

Docket Numbers: ER23-1896-000.

Applicants: PJM Interconnection, L.L.C.

Description: § 205(d) Rate Filing: Original ISA, Service Agreement No. 6911; Queue No. AE2-316 to be effective 4/17/2023.

Filed Date: 5/17/23.

Accession Number: 20230517-5026.

Comment Date: 5 p.m. ET 6/7/23.

Docket Numbers: ER23-1897-000.

Applicants: Digital Power USA, Inc.

Description: Baseline eTariff Filing: Application for Market Based Rate Authority to be effective 7/15/2023.

Filed Date: 5/17/23.

Accession Number: 20230517-5042.

Comment Date: 5 p.m. ET 6/7/23.

Docket Numbers: ER23-1898-000.

Applicants: PJM Interconnection, L.L.C.

Description: Tariff Amendment: Notice of Cancellation of ISA, SA No. 6756; Queue No. AF1-105 to be effective 4/14/2023.

Filed Date: 5/17/23.

Accession Number: 20230517-5043.

Comment Date: 5 p.m. ET 6/7/23.

Docket Numbers: ER23-1899-000.

Applicants: PJM Interconnection, L.L.C.

Description: § 205(d) Rate Filing: Original ISA, SA No. 6887; Queue No. AE2-219 to be effective 4/17/2023.

Filed Date: 5/17/23.

Accession Number: 20230517-5073.

Comment Date: 5 p.m. ET 6/7/23.

Docket Numbers: ER23-1900-000.

Applicants: Ohio Valley Electric Corporation.

Description: Tariff Amendment: Notice of Cancellation to be effective 7/16/2023.

Filed Date: 5/17/23.

Accession Number: 20230517-5083.

Comment Date: 5 p.m. ET 6/7/23.

Docket Numbers: ER23-1901-000.

Applicants: Duke Energy Carolinas, LLC.

Description: § 205(d) Rate Filing: Wholesale Contract Revisions to Rate Schedule Nos. 315, 316, 317 and 335 to be effective 1/1/2023.

Filed Date: 5/17/23.

Accession Number: 20230517-5084.

Comment Date: 5 p.m. ET 6/7/23.

Docket Numbers: ER23-1902-000.

Applicants: Indiana-Kentucky Electric Corporation.

Description: Baseline eTariff Filing: Baseline Filing to be effective 7/16/2023.

Filed Date: 5/17/23.

Accession Number: 20230517-5086.

Comment Date: 5 p.m. ET 6/7/23.

Docket Numbers: ER23-1903-000.

Applicants: PJM Interconnection, L.L.C.

Description: § 205(d) Rate Filing: Original ISA, Service Agreement No. 6912; Queue No. AD2-038 to be effective 4/17/2023.

Filed Date: 5/17/23.

Accession Number: 20230517-5087.

Comment Date: 5 p.m. ET 6/7/23.

Docket Numbers: ER23-1904-000.

Applicants: Midcontinent Independent System Operator, Inc., Northern Indiana Public Service Company LLC.

Description: § 205(d) Rate Filing: Midcontinent Independent System Operator, Inc. submits tariff filing per 35.13(a)(2)(iii: 2023-05-17_NIPSCO Request for Approval of CWIP Incentives to be effective 7/17/2023.

Filed Date: 5/17/23.

Accession Number: 20230517-5095.

Comment Date: 5 p.m. ET 6/7/23.

Docket Numbers: ER23-1905-000.

Applicants: PJM Interconnection, L.L.C.

Description: § 205(d) Rate Filing: Original ISA, Service Agreement No. 6914; Queue No. NQ178 to be effective 4/17/2023.

Filed Date: 5/17/23.

Accession Number: 20230517-5096.

Comment Date: 5 p.m. ET 6/7/23.

Docket Numbers: ER23-1906-000.

Applicants: PJM Interconnection, L.L.C.

Description: § 205(d) Rate Filing: Original ISA, Service Agreement No. 6904; Queue No. AC2-157 to be effective 4/17/2023.

Filed Date: 5/17/23.

Accession Number: 20230517-5104.

Comment Date: 5 p.m. ET 6/7/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 17, 2023.
Debbie-Anne A. Reese,
Deputy Secretary.

[FR Doc. 2023-10947 Filed 5-22-23; 8:45 am]

BILLING CODE 6717-01-P